DEPARTMENT OF ENERGY

Federal Energy Regulatory Commission

[Project No. 14405-000]

Town of Waterville; Notice of Intent To File License Application, Filing of Pre-Application Document, and Approving Use of the Traditional Licensing Process

a. Type of Filing: Notice of Intent to File License Application and Request to Use the Traditional Licensing Process.

b. Project No.: 14405-000.

c. Date filed: May 7, 2012.

d. Submitted By: Town of Waterville.

e. Name of Project: Waterville Hydroelectric Project.

f. Location: On Kelley River, in the Town of Waterville, Lamoille County, Vermont. The project would not occupy lands of the United States.

g. Filed Pursuant to: 18 CFR 5.3 of the Commission's regulations.

h. Potential Applicant Contact: Scott Johnson, Town of Waterville Planning

Commission, PO Box 31, 850 VT Route 109, Waterville, VT 05492, (802) 888-5229 Ext. 124; sjohnson@lamoillefamilycenter.org.

i. FERC Contact: Samantha Davidson, (202) 502-6839 or samantha.davidson@ferc.gov.

j. Town of Waterville filed its request to use the Traditional Licensing Process on May 7, 2012. Town of Waterville provided public notice of its request on June 6, 2012. In a letter dated July 2, 2012, the Director of the Division of Hydropower Licensing approved Town of Waterville's request to use the Traditional Licensing Process.

k. With this notice, we are initiating informal consultation with: (a) The U.S. Fish and Wildlife Service and NOAA Fisheries under section 7 of the Endangered Species Act and the joint agency regulations thereunder at 50 CFR, Part 402; (b) NOAA Fisheries under section 305(b) of the Magnuson-Stevens Fishery Conservation and Management Act and implementing regulations at 50 CFR 600.920; and (c) the Vermont State Historic Preservation Officer, as required by section 106, National Historical Preservation Act, and the implementing regulations of the Advisory Council on Historic Preservation at 36 CFR 800.2.

l. Town of Waterville filed a Pre-Application Document (PAD; including a proposed process plan and schedule) with the Commission, pursuant to 18 CFR 5.6 of the Commission's regulations.

m. A copy of the PAD is available for review at the Commission in the Public Reference Room or may be viewed on the Commission's Web site (http://www.ferc.gov), using the “eLibrary” link. Enter the docket number, excluding the last three digits in the docket number field to access the document. For assistance, contact FERC Online Support at FERCONlineSupport@ferc.gov or toll free at 1-866-208-3676, or for TTY, (202) 502-8659. A copy is also available for inspection and reproduction at the address in paragraph h.

n. Register online at http://www.ferc.gov/docs-filing/esubscription.asp to be notified via email of new filing and issuances related to this or other pending projects. For assistance, contact FERC Online Support.

Dated: July 2, 2012.
Kimberly D. Bose,
Secretary.

[FR Doc. 2012-16750 Filed 7-9-12; 8:45 am]

BILLING CODE 6717-01-P